DEPARTMENT OF DEFENSE

Department of the Navy

[Docket ID: USN-2010-0012]

Notice of Proposed Information Collection; Comment Request

AGENCY: Department of the Navy, DoD.

ACTION: Notice.

SUMMARY: In compliance with section 3506(c)(2)(A) of the Paperwork Reduction Act of 1995, the Navy's Chief of Information announces the submission of a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 1, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information or to obtain a copy of the proposal and associated collection instruments, contact Assistant Chief of Information for Community Outreach, Office of the Chief of Navy Information, 2000 Navy Pentagon, Washington, DC 20350-2000.

Title, Form, and OMB Number: U.S. Navy Chief of Information Sponsor Application; OMB Control Number 0703-TBD.

Needs and Uses: This collection of information is necessary to automate an antiquated process facilitating embarks on Navy surface ships and submarines.

Affected Public: Members of the public who accept invitations to embark Navy surface ships and submarines.

Annual Burden Hours: 750.

Number of Respondents: 3000.

Responses per Respondent: 1.

Average Burden per Response: 15 minutes.

Frequency: On occasion.

SUPPLEMENTARY INFORMATION:

Summary of Information Collection

The Navy's Chief of Information proposes the establishment of a centralized system and database for those individuals who are embarking U.S. Navy ships as part of the Navy's Leaders to Sea program. Currently, the execution of this important community outreach program is done by hardcopy forms and fax. The establishment of a centralized system and database will automate the system, significantly improving its efficiency while reducing the overall paperwork required to execute the program.

Dated: April 26, 2010.
Mitchell S. Bryman,
Alternate OSD Federal Register Liaison Officer, Department of Defense.

[FR Doc. 2010-9995 Filed 4-28-10; 8:45 am]

BILLING CODE5001-06-P